DEPARTMENT OF HEALTH AND HUMAN SERVICES

Administration for Children and Families

Proposed Information Collection Activity; The Study of Disability Services Coordinators and Inclusion in Head Start (New Collection)

AGENCY: Office of Planning, Research, and Evaluation, Administration for Children and Families, HHS.

ACTION: Request for public comment.

SUMMARY: This is a new request for data collection for the Study of Disability Services Coordinators and Inclusion in Head Start. The study aims to provide a nationally representative picture of the Early Head Start (EHS) and Head Start (HS) Disability Services Coordinator (DSC) workforce, as well as services provided to children with disabilities and their families within these programs and how EHS/HS collaborates with services in the community, including health providers, Local Education Agencies, and Part C. This is the first study of the HS/EHS DSC workforce and will contain three waves of data collection using surveys and qualitative interviews.

DATES: Comments due within 60 days of publication. In compliance with the requirements of the Paperwork Reduction Act of 1995, the Administration for Children and Families (ACF) is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Study of DSCs and Inclusion in Head Start will support ACF in better understanding the implementation of EHS/HS policies and practices for delivering disability services. This study aims to present a nationally representative description of the characteristics and work of DSCs and related staff in EHS/HS programs and how EHS/HS serves children with disabilities and their families. The study will not allow for statistical generalization beyond EHS/HS and their service populations.

The study will report on inclusive practices, staffing, professional development, and collaboration with local education agencies, early intervention programs, health providers, and other community stakeholders who serve young children with disabilities and their families.

ACF aims to address the research questions through a national survey of EHS/HS program directors (Wave 1), a survey with DSCs identified by the directors (Wave 2), and a one-time qualitative interview with a subset of DSCs who respond to the web-based survey (Wave 3). There are no data regarding the population of the DSC workforce and subgroups, preventing the team from setting a frame for selecting a nationally representative sample. Given the lack of administrative data and contact information about DSCs, it is essential that a national survey of EHS/HS directors (Wave 1) be conducted to identify DSC respondents. A purposive sample of DSCs who completed the Wave 2 survey will be asked to participate in a semi-structured, qualitative interview.

Data collection activities will occur over 15 months, shortly after OMB approval. The three waves of data collection will occur concurrently—the Wave 1 survey will be fielded for approximately 8 months; the Wave 2 survey will be fielded for approximately 12 months; and the Wave 3 interviews will be conducted over 4 months.

Respondents: Head Start Directors, Head Start Disability Services Coordinators.

Annual Burden Estimates
Instrument | Number of respondents (total over request period) | Number of responses per respondent (total over request period) | Average burden per response (in hours) | Total burden (in hours) | Annual burden (in hours)
Survey of EHS/HS Program Directors (Wave 1) | 1,600 | 1 | 0.42 | 672 | 336
Survey of EHS/HS DSCs (Wave 2) | 1,200 | 1 | 0.75 | 900 | 450
DSC Interview (Wave 3) | 36 | 1 | 0.75 | 27 | 13.5

Estimated Total Annual Burden Hours: 799.5.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9835; 42 U.S.C. 9844.

Mary B. Jones,
ACF/OPRE Certifying Officer.

[FR Doc. 2021-15594 Filed 7-21-21; 8:45 am]

BILLING CODE 4184-22-P